DEPARTMENT OF STATE

[Public Notice 8451]

Privacy Act; System of Records: Digital Outreach and Communications, State-79

SUMMARY: Notice is hereby given that the Department of State proposes to create a system of records, Digital Outreach and Communications, State-79, pursuant to the provisions of the Privacy Act of 1974, as amended (5 U.S.C. 552a) and Office of Management and Budget Circular No. A-130, Appendix I.

DATES: This system of records will be effective on October 16, 2013, unless we receive comments that will result in a contrary determination.

ADDRESSES: Any persons interested in commenting on the new system of records may do so by writing to the Director; Office of Information Programs and Services, A/GIS/IPS; Department of State, SA-2; 515 22nd Street NW.; Washington, DC 20522-8100.

FOR FURTHER INFORMATION CONTACT: Director; Office of Information Programs and Services, A/GIS/IPS; Department of State, SA-2; 515 22nd Street NW.; Washington, DC 20522-8100.

SUPPLEMENTARY INFORMATION: The Department of State proposes that the new system will be named “Digital Outreach and Communications.” In keeping with the Department's mission, the purpose of the system of records is to extend outreach, engagement, and collaboration efforts with the public, to facilitate transparency and accountability with regard to Department activities, and to conduct and administer contests, challenges, and other competitions. Only members of the public who choose to interact with the Department through a social media outlet or other electronic means provide information for this system of records.

The Department's report was filed with the Office of Management and Budget. The new system description, “Digital Outreach and Communications, State-79,” will read as set forth below.

Catherine Ebert-Gray,
Acting Assistant Secretary for Administration, U.S. Department of State.

STATE-79

SYSTEM NAME:

Digital Outreach and Communications

SECURITY CLASSIFICATION:

Unclassified.

SYSTEM LOCATION:

Department of State domestic locations and posts abroad.

CATEGORIES OF INDIVIDUALS COVERED BY THE SYSTEM:

Individuals who interact with the Department through a social media outlet or other electronic means including by submitting feedback, requesting more information from the Department, or participating in a contest, challenge, or other competition.

CATEGORIES OF RECORDS IN THE SYSTEM:

The system may contain information passed through a social media site to facilitate interaction with the Department such as, but not limited to the following: name, username, email address, home or work address, contact information, phone numbers, date of birth, age, security questions, IP addresses, log-in credentials, and educational, business, or volunteer affiliation. It may also include input and feedback from the public, such as comments, emails, videos, and images, which may include tags, geotags, or geographical metadata.

In addition to the information listed above, individuals who enter a contest, challenge, or other competition may be asked to provide certain specific information including financial data, passport and visa information, and other information necessary to authenticate qualifications for participation or for prize issuance.

AUTHORITY FOR MAINTENANCE OF THE SYSTEM:

Presidential Memorandum to the Heads of Executive Departments and Agencies on Transparency and Open Government, January 21, 2009. OMB M-10-06, Open Government Directive, December 8, 2009. OMB M-10-22, Guidance for Online Use of Web Measurement and Customization Technologies, June 25, 2010. OMB M-10-23, Guidance for Agency Use of Third-Party Web sites and Applications, June 25, 2010. 5 U.S.C. 301, Management of Executive Agencies. 22 U.S.C. 2651a, Organization of the Department of State.

PURPOSE:

To extend outreach, engagement, and collaboration efforts with the public, and to facilitate transparency and accountability with regard to Department activities. To conduct and administer contests, challenges, and other competitions.

ROUTINE USES OF RECORDS MAINTAINED IN THE SYSTEM, INCLUDING CATEGORIES OF USERS AND THE PURPOSES OF SUCH USES:

Information in this system may be shared with the news media and the public, with the approval of the Chief of Mission or Bureau Assistant Secretary who supervises the office responsible for the outreach effort, except to the extent that release of the information would constitute an unwarranted invasion of personal privacy;

To Government agencies and the White House for purposes of planning and coordinating public engagement activities;

And to Federal, state, and city governments which are issued tax reports, the Internal Revenue Service and the Social Security Administration which are sent tax and withholding data.

The Department of State periodically publishes in the Federal Register its standard routine uses, which apply to all of its Privacy Act systems of records. These notices appear in the form of a Prefatory Statement. These standard routine uses apply to Digital Outreach and Communications, State-79.

DISCLOSURE TO CONSUMER REPORTING AGENCIES:

None.

POLICIES AND PRACTICES FOR STORING, RETRIEVING, ACCESSING, RETAINING, AND DISPOSING OF RECORDS IN THE SYSTEM:

STORAGE:

Electronic media.

RETRIEVABILITY:

Username; email; name.

SAFEGUARDS:

All users are given cyber security awareness training which covers the procedures for handling Sensitive but Unclassified information, including personally identifiable information (PII). Annual refresher training is mandatory. In addition, all Foreign Service and Civil Service employees and those Locally Engaged Staff who handle PII are required to take the Foreign Service Institute distance learning course instructing employees on privacy and security requirements, including the rules of behavior for handling PII and the potential consequences if it is handled improperly. Before being granted access to “Digital Outreach and Communications,” a user must first be granted access to the Department of State computer system.

Remote access to the Department of State network from non-Department owned systems is authorized only to unclassified systems and only through a Department approved access program. Remote access to the network is configured with the Office of Management and Budget Memorandum M-07-16 security requirements which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

RETENTION AND DISPOSAL:

Records are retired and destroyed in accordance with published Department of State Records Disposition Schedules as approved by the National Archives and Records Administration (NARA). More specific information may be obtained by writing to the Director; Office of Information Programs and Services, A/GIS/IPS; SA-2, Department of State; 515 22nd Street NW.; Washington, DC 20522-8100.

SYSTEM MANAGER(S) AND ADDRESS:

The Under Secretary for Public Diplomacy and Public Affairs; Department of State; 2201 C Street NW.; Washington, DC 20520.

NOTIFICATION PROCEDURE:

Individuals who have cause to believe that the Department may have outreach records pertaining to him or her should write to the Director; Office of Information Programs and Services, A/GIS/IPS; SA-2, Department of State; 515 22nd Street NW.; Washington, DC 20522-8100. The individual must specify that he or she wishes the outreach records of the Department to be checked. At a minimum, the individual must include the following: name; date and place of birth; current mailing address and zip code; signature; and other information helpful in identifying the record.

RECORD ACCESS PROCEDURES:

Individuals who wish to gain access to or amend records pertaining to themselves should write to the Director; Office of Information Programs and Services (address above).

CONTESTING RECORD PROCEDURES:

Individuals who wish to contest records pertaining to themselves should write to the Director; Office of Information Programs and Services (address above).

RECORD SOURCE CATEGORIES:

These records contain information obtained directly from individuals who interact with the Department of State through social media sites or who communicate electronically with the Department in response to public outreach.

SYSTEMS EXEMPTED FROM CERTAIN PROVISIONS OF THE ACT:

None.

[FR Doc. 2013-21769 Filed 9-5-13; 8:45 am]

BILLING CODE 4710-24-P